NATIONAL AERONAUTICS AND SPACE ADMINISTRATION

[Notice (09-110)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: December 11, 2009.

FOR FURTHER INFORMATION CONTACT: Robin W. Edwards, Patent Counsel, Langley Research Center, Mail Code 141, Hampton, VA 23681-2199; telephone (757) 864-3230; fax (757) 864-9190.

NASA Case No. LAR-17240-1: Smart Image Enhancement Process;

NASA Case No. LAR-17655-1: Localized Decisions and Actions Determined from Communal Network of Observations in Order to Achieve Global Solution;

NASA Case No. LAR-17609-1: A Self-Stabilizing Byzantine-Fault-Tolerant Clock Synchronization System and Method;

NASA Case No. LAR-17579-1: Wireless Chemical Sensor and Sensing Method for Use Therewith;

NASA Case No. LAR-17580-1: Wireless Chemical Sensor and Sensing Method for Use Therewith;

NASA Case No. LAR-17656-1: Directed Design of Experiments for Validating Probability of Detection Capability of a Testing System;

NASA Case No.: LAR-17695-1: Vapor-Barrier Vacuum Isolation System;

NASA Case No.: LAR-16599-1: Flexible Volumetric Structure;

NASA Case No.: LAR-17469-1: Micro Ring Grating Spectrometer with Adjustable Aperture;

NASA Case No.: LAR-17241-1: Devices and Methods for a Micro-Fresnel Zone Plate Optical Device;

NASA Case No.: LAR-17539-1: Eddy Current System and Method for Crack Detection;

NASA Case No.: LAR-17651-1: Domain Decomposition by the Advancing-Partition Method for Parallel Unstructured Grid Generation;

NASA Case No.: LAR-17425-1: Micro Spectrometer for Parallel Light and Method of Use;

NASA Case No.: LAR-17242-1: Arrayed Micro-Ring Spectrometer System and Method of Use;

NASA Case No.: LAR-17237-1: Apparatus and Method for Creating a Photonic Densely-Accumulated Ray-Point;

NASA Case No.: LAR-16571-3: Magnetic Field Response Sensor for Conductive Media;

NASA Case No.: LAR-17696-1: Asymmetric Dielectric Elastomer Composite Material;

NASA Case No.: LAR-17748-1: Method for Exfoliation of Hexagonal Boron Nitride;

NASA Case No.: LAR-16383-2: Electrically Conductive, Optically Transparent Polymer/Carbon Nanotube Composites;

NASA Case No.: LAR-17745-1: Electrically Conductive, Optically Transparent Polymer/Carbon Nanotube Composites and Process for Preparation Thereof;

NASA Case No.: LAR 17711-1: Wireless Electrical Device Using Open-Circuit Elements Having No Electrical Connections;

NASA Case No.: LAR-17585-1: Method for Purifying Biodiesel Fuel.

Dated: December 4, 2009.
Richard W. Sherman,
Deputy General Counsel.

[FR Doc. E9-29541 Filed 12-10-09; 8:45 am]

BILLING CODE 7510-13-P